DEPARTMENT OF TRANSPORTATION

Maritime Administration

[Docket No. MARAD-2019-0142]

Request for Comments of a New Information Collection

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on June 12, 2019.

DATES: Comments must be submitted on or before October 21, 2019.

ADDRESSES: Send comments regarding the burden estimate, including suggestions for reducing the burden, to the Office of Management and Budget, Attention: Desk Officer for the Office of the Secretary of Transportation, 725 17th Street NW, Washington, DC 20503.

FOR FURTHER INFORMATION CONTACT: Mr. Lalit Raina, (202) 366-2314, Office of Cargo and Commercial Sealift, Maritime Administration, U.S. Department of Transportation, 1200 New Jersey Avenue SE, Washington, DC 20590; Lalit.Raina@DOT.gov.

SUPPLEMENTARY INFORMATION:

Title: Ocean Shipments Moving Under the Cargo Preference Act of 1954.

OMB Control Number: 2133-NEW.

Type of Request: Approval of a new Information Collection.

Background: FAR clause 52.247-64, Preference for Privately Owned U.S.-Flag Commercial Vessels, as prescribed at 47.507(a), is used in solicitations and contracts that may involve ocean transportation of supplies subject to the Cargo Preference Act of 1954. The contractor must submit one legible copy of a rated on-board bill of lading for each shipment to both the contracting officer and the Maritime Administration (MARAD). The contractor must flow this requirement down to all subcontracts and purchase orders under the contract.

The information collection procedure requires that the designated reporting party send already prepared bills of lading as presented by the U.S.-flag and foreign-flag carriers. The bills of lading should be sent to MARAD within 20 days of loading in the United States or 30 days if originating outside the United States.

Respondents: Shippers of ocean borne equipment, materials, or commodities financed in any way by federal funds (government implelled cargo).

Affected Public: Business or other for profit.

Total Estimated Number of Responses: 8,040.

Frequency of Collection: Annually.

Estimated time per Respondent: 5 minutes.

Total Estimated Number of Annual Burden Hours: 402.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

* * * * *

Dated: September 17, 2019.
By Order of the Maritime Administrator.
T. Mitchell Hudson, Jr.,
Secretary, Maritime Administration.

[FR Doc. 2019-20431 Filed 9-19-19; 8:45 am]

BILLING CODE 4910-81-P